ENVIRONMENTAL PROTECTION AGENCY

40 CFR Part 258

[EPA-R08-RCRA-2016-0505; FRL-9962-17-Region 8]

Determination To Approve Alternative Final Cover Request for Phase 2 of the City of Wolf Point, Montana, Landfill

AGENCY: Environmental Protection Agency (EPA).

ACTION: Proposed rulemaking.

SUMMARY: The Environmental Protection Agency (EPA) is proposing to approve an alternative final cover for Phase 2 of the City of Wolf Point landfill, a municipal solid waste landfill (MSWLF) owned and operated by the City of Wolf Point, Montana, on the Assiniboine and Sioux Tribes' Fort Peck Reservation in Montana. The EPA is seeking public comment on EPA's determination to approve the City of Wolf Point's alternative final cover proposal.

In the “Rules and Regulations” section of this Federal Register, we are making the final determination to approve the alternative final cover for Phase 2 of the City of Wolf Point landfill, as a direct final rule without a prior proposed rule. If we receive no relevant adverse comment, we will not take further action on this proposed rule.

DATES: Written comments must be received on or before July 3, 2017.

ADDRESSES: Submit your comments, identified by Docket ID No. EPA-R08-RCRA-2016-0505, by one of the following methods:

• Online: http://www.regulations.gov. Follow the online instructions for submitting comments. Once submitted, comments cannot be edited or removed from regulations.gov.

• Email: roach.michael@epa.gov.

• Mail: Michael Roach, Environmental Protection Agency, Region 8, Mail Code: 8P-R, 1595 Wynkoop Street, Denver, Colorado 80202.

• Hand delivery: Environmental Protection Agency Region 8, Mail Code: 8P-R, 1595 Wynkoop Street, Denver, Colorado 80202. Such deliveries are only accepted during normal hours of operation, which are Monday through Friday from 8:00 a.m. until 4:30 p.m.

Instructions: Direct your comments to Docket ID No. EPA-R08-RCRA-2016-0505. The EPA may publish any comment received to its public docket without change and may be available online at http://www.regulations.gov, including any personal information provided, unless the comment includes information claimed to be Confidential Business Information (CBI) or other information whose disclosure is restricted by statute. Do not submit information that you consider to be CBI or otherwise protected through http://www.regulations.gov or by email. The http://regulations.gov Web site is an “anonymous” system, which means EPA will not know your identity or contact information unless you provide it in the body of your comment. If you send an email comment directly to EPA rather than going through http://www.regulations.gov, your email address will be captured automatically and included as part of the comment that is placed in the public docket and made available on the Internet. If you submit an electronic comment, EPA recommends that you include your name and other contact information in the body of your comment and with any disk or CD-ROM you submit. If the EPA cannot read your comment due to technical difficulties and cannot contact your for clarification, the EPA may not be able to consider your comment. Electronic files should avoid the use of special characters, any form of encryption and be free of any defects or viruses. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Michael Roach, Resource Conservation and Recovery Program, Mail Code: 8P-R, Environmental Protection Agency, Region 8, 1595 Wynkoop Street, Denver, Colorado, 80202; telephone number: (303) 312-6369; email address: roach.michael@epa.gov.

SUPPLEMENTARY INFORMATION: In the “Rules and Regulations” section of this Federal Register, the EPA is promulgating a site-specific rule that approves an alternative final cover for Phase 2 of the City of Wolf Point landfill, a municipal solid waste landfill (MSWLF) owned and operated by the City of Wolf Point, Montana, on the Assiniboine and Sioux Tribes' Fort Peck Reservation in Montana, as a direct final rule. The EPA did not make a proposal prior to the direct final rule because we believe these actions are not controversial and do not expect relevant adverse comments. We have explained the reasons for this approval in the preamble to the direct final rule.

Unless the EPA receives relevant adverse comments that oppose the site-specific rule during the comment period, the direct final rule will become effective on the date it establishes, and we will not take further action on this proposal. If we get relevant adverse comments that oppose the site-specific rule, we will withdraw the direct final rule and it will not take immediate effect. We will then respond to public comments in a later final rule based on this proposal. You may not have another opportunity for comment. If you want to comment on this action, you must do so at this time

Dated: April 17, 2017.
Debra H. Thomas,
Acting Regional Administrator, Region 8.

[FR Doc. 2017-11228 Filed 6-1-17; 8:45 am]

BILLING CODE 6560-50-P